DEPARTMENT OF JUSTICE

Office of Community Policing Services: Agency Information Collection Activities; Proposed Collection; Comments Requested

ACTION: 30-Day notice of Information Collection Under Review: Reinstatement, With Change, of a Previously Approved Collection for Which Approval has Expired, Regional Community Policing Institute Quarterly Progress Report.

The Department of Justice (DOJ), Office of Community Oriented Policing Services (COPS) has submitted the following information collection request to the Office of Management and Budget (OMB) for review and approval in accordance with the Paperwork Reduction Act of 1995. The proposed information collection is published to obtain comments from the public and affected agencies. This proposed information collection was previously published in the Federal Register Volume 67, Number 73, page 18636 on April 16, 2002, allowing for a 60 day comment period.

The purpose of this notice is to allow for an additional 30 days for public comment until September 12, 2002. This process is conducted in accordance with 5 CFR 1320.10.

Written comments and/or suggestions regarding the items contained in this notice, especially the estimated public burden and associated response time, should be directed to The Office of Management and Budget, Office of Information and Regulatory Affairs, Attention Department of Justice Desk Officer, Washington, DC 20503. Additionally, comments may be submitted to OMB via facsimile to (202)-395-7285.

Request written comments and suggestions from the public and affected agencies concerning the proposed collection of information are encouraged. Your comments should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: Reinstatement, With Change, of a Previously Approved Collection for Which Approval has Expired.

(2) Title of the Form/Collection: Regional Community Policing Institute Quarterly Report.

(3) Agency form number, if any, and the applicable component of the Department of Justice sponsoring the collection: Form Number: COPS 022/01. Office of Community Oriented Policing Services, Department of Justice.

(4) Affected public who will be asked to respond, as well as a brief abstract: Primary: State, Local or Tribal Government. Other: None. Abstract: This information collection requests information required to monitor the progress and use of funds by the Regional Community Policing Institutes through the one-year cooperative agreements to provide training and technical assistance to COPS grantees and other participants in the area of community-oriented policing.

(5) An estimate of the total number of respondents and the amount of time estimated for an average respondent to respond: There are 32 respondents. The amount of estimated time required for the average respondent to respond is 11.5 hours.

(6) An estimate of the total public burden (in hours) associated with the collection: There are 1,472 hours associated with this information collection.

If additional information is required contact: Mrs. Brenda E. Dyer, Deputy Clearance Officer, United States Department of Justice, Information Management and Security Staff, Justice Management Division, Suite 1600, Patrick Henry Building, 601 D Street, NW., Washington, DC 20530.

Dated: August 7, 2002.
Brenda E. Dyer,
Department Deputy Clearance Officer, United States Department of Justice.

[FR Doc. 02-20439 Filed 8-12-02; 8:45 am]

BILLING CODE 4410-AT-M